DEPARTMENT OF ENERGY

Federal Energy Regulatory Commission

[Project No. 2082-062; Project No. 2082-063; Project No. 14803-000; Project No. 14803-001]

PacifiCorp, Klamath River Renewal Corporation; Notice of Applications Filed With the Commission

Take notice that the following hydroelectric applications have been filed with the Commission and are available for public inspection:

a. Types of Applications: Application for Amendment and Partial Transfer of License; Application for Surrender of License.

b. Project Nos.: 2082-062 and 14803-000 (amendment and transfer application); 2082-063 and 14803-001 (surrender application).

c. Date Filed: September 23, 2016.

d. Applicants: For license amendment and transfer: PacifiCorp (transferor) and Klamath River Renewal Corporation (transferee).

For license surrender: Klamath River Renewal Corporation.

e. Name of Projects: Klamath Project (P-2082).

Lower Klamath Project (P-14803).

f. Locations: Klamath Project—on the Klamath River in Klamath County, Oregon, and on the Klamath River and Fall Creek in Siskiyou County, California. The project includes about 477 acres of federal lands administered by the Bureau of Reclamation and the Bureau of Land Management.

Lower Klamath Project—on the Klamath River in Klamath County, Oregon, and Siskiyou County, California. The project would include about 395 acres of federal lands administered by the Bureau of Land Management.

g. Filed Pursuant to: Federal Power Act, 16 U.S.C. 791a-825r.

h. Applicants Contact: Sarah Kamman, Vice President and General Counsel, PacifiCorp, 825 NE Multnomah Street, Suite 2000, Portland, OR 97232, (503) 813-5865, sarah kamman@pacificorp.com.

Michael Carrier, President, Klamath River Renewal Corporation, 423 Washington Street, 3rd Floor, San Francisco, CA 94111, (415) 820-4441, michael@klamathrenewal.org.

i. FERC Contacts: Amendment and Transfer: Steve Hocking, (202) 502-8753, Steve.Hocking@ferc.gov.

Surrender: John Mudre: (202) 502-8902, john.mudre@ferc.gov.

j. Description of Amendment and Transfer Request: The applicants request that the Commission transfer the J.C. Boyle, Copco No. 1, Copco No. 2, and Iron Gate developments of the existing Klamath Project No. 2082 from PacifiCorp to the Klamath River Renewal Corporation (Renewal Corporation) and create a new project, the Lower Klamath Project, for the transferred developments with the Renewal Corporation as the sole licensee. PacifiCorp requests that the license for Project No. 2082 be amended to delete references to the four transferred developments. The applicants state that they will make a supplemental filing on or before March 1, 2017, demonstrating the legal, technical, and financial capabilities of the Renewal Corporation to perform its responsibilities as transferee. Applicants further request that the Commission act on the amendment and transfer application by December 31, 2017, and allow the Renewal Corporation six months from the issuance date of the order approving transfer to submit proof of its acceptance of license transfer.

k. Description of Surrender Request: The Renewal Corporation's request to surrender and decommission the Lower Klamath Project, including removal of the project dams is contingent upon a Commission order amending PacifiCorp's existing Klamath Project (P-2082) license to create a new project, the Lower Klamath Project, and transferring the Lower Klamath Project to the Renewal Corporation, as described in item (j), above. The Lower Klamath Project, as envisioned by the Renewal Corporation, would consist of the J.C. Boyle, Copco No. 1, Copco No. 2, and Iron Gate developments of the existing Klamath Project No. 2082, and the Renewal Corporation would be the sole licensee. The Renewal Corporation requests that the Commission not act on this request until it is ready to accept license transfer and states that it will file, by December 31, 2017, its decommissioning plan to serve as the basis for Commission staff's environmental and engineering review of the surrender application. Because only a licensee may file to surrender a license and the Commission does not accept contingent applications, the surrender application is deemed to be filed by both PacifiCorp and the Renewal Corporation. See 18 CFR 6.1 and 4.32(j). Therefore, while action on the amendment and transfer application is pending, the Commission will maintain both applications in the dockets for both project numbers. If the Commission approves the transfer and the Renewal Corporation accepts the license, following which the Renewal Corporation would become the sole licensee, the surrender proceeding would continue solely in Project No. 14803.

l. With this notice, we are initiating informal consultation with: (a) the U.S. Fish and Wildlife Service and NOAA Fisheries under section 7 of the Endangered Species Act and the joint agency implementing regulations at 50 CFR part 402; (b) NOAA Fisheries under section 305(b) of the Magnuson-Stevens Fishery Conservation and Management Act and implementing regulations at 50 CFR 600.920; and (c) the California and Oregon State Historic Preservation Officers, as required by section 106 of the National Historic Preservation Act, and the implementing regulations of the Advisory Council on Historic Preservation at 36 CFR part 800.

m. With this notice, we are designating PacifiCorp and the Renewal Corporation as the Commission's non-federal representative for carrying out informal consultation, pursuant to section 7 of the Endangered Species Act, section 305(b) of the Magnuson-Stevens Fishery Conservation and Management Act, and section 106 of the National Historic Preservation Act and the Advisory Council's regulations at 36 CFR 800.2(c)(4).

n. Locations of the Applications: Copies of the applications are available for inspection and reproduction at the Commission's Public Reference Room, located at 888 First Street, NE., Room 2A, Washington, DC 20426, or by calling (202) 502-8371. These filings may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Copies are also available for inspection and reproduction at the addresses in item (h), above.

o. Individuals desiring to be included on the Commission's mailing list for these proceedings should so indicate by writing to the Secretary of the Commission.

p. Additional Information: We are not requesting comments at this time. After receiving the applicants' supplemental filings on or before March 1, 2017, for the license transfer and December 31, 2017, for the surrender, the Commission will issue notices requesting comments, protests, and motions to intervene.

Kimberly D. Bose,
Secretary

[FR Doc. 2016-27806 Filed 11-17-16; 8:45 am]

BILLING CODE 6717-01-P